DEPARTMENT OF ENERGY

Federal Energy Regulatory Commission

[Docket No. RM01-5-000]

Electronic Tariff Filings; Notice of Change to eTariff Type of Filing Codes

Take notice that, effective November 18, 2012, the list of available eTariff Type of Filing Codes (TOFC) will be modified to include a new TOFC for the Federal Power Marketing Administrations (PMAs): TOFC 1220: “Rate Extensions”. This code will permit PMAs to file for extensions of rates consistent with 10 CFR 903.23 (2012) of the Department of Energy's regulations. Tariff records included in such filings will be automatically accepted to be effective on the proposed effective date without further Commission action.

For more information, contact Peter Radway, Office of Energy Market Regulation at (202) 502-8782 or send an email to ETariff@ferc.gov.

Dated: October 31, 2012.
Kimberly D. Bose,
Secretary.

[FR Doc. 2012-27006 Filed 11-5-12; 8:45 am]

BILLING CODE 6717-01-P